DEPARTMENT OF AGRICULTURE

Forest Service

Newspapers To Be Used for Publication of Legal Notice of Appealable Decisions and Publication of Notice of Proposed Actions for Eastern Region: Illinois, Indiana and Ohio, Michigan, Minnesota, Missouri, New Hampshire and Maine, Pennsylvania, Vermont and New York, West Virginia, and Wisconsin

AGENCY: Forest Service, USDA.

ACTION: Notice.

SUMMARY: Deciding Officers in the Eastern Region will publish notice of decisions subject to administrative appeal under 36 CFR parts 215 and 217 in the legal notice section of the newspapers listed in the SUPPLEMENTARY INFORMATION section of this notice. As provided in 36 CFR 215.5(a) and 36 CFR 217.5(d), the public shall be advised through Federal Register notice, of the principal newspaper to be utilized for publishing legal notices of decisions. Newspaper publication of notice of decisions is in addition to direct notice of decisions to those who have requested notice in writing and to those known to be interested in or affected by a specific decision. In addition, the Responsible Official in the Eastern Region will also publish notice of proposed actions under 36 CFR part 215 in the newspapers that are listed in the SUPPLEMENTARY INFORMATION section of this notice. As provided in 36 CFR 215(a), the public shall be advised, through Federal Register notice, of the principal newspapers to be utilized for publishing notices on proposed actions.

DATES: Use of these newspapers for purposes of publishing legal notice of decisions subject to appeal under 36 CFR parts 215 and 217, and notices of proposed actions under 36 CFR part 215 shall begin on or after the date of this publication.

FOR FURTHER INFORMATION CONTACT: Patricia Rowell, Regional Appeals Assistant, Eastern Region, Gaslight Building, 7th Floor, 626 East Wisconsin Avenue, Milwaukee, Wisconsin, 53202 Phone: 414-297-3439.

SUPPLEMENTARY INFORMATION: Deciding Officers in the Eastern Region will give legal notice of decisions subject to appeal under 36 CFR parts 215 and 217 in the following newspapers which are listed by Forest Service administrative unit. The timeframe for comment on a proposed action shall be based on the date of publication of the notice of the proposed action in the principal newspaper. The timeframe for appeals shall be based on the date of publication of the legal notice of the decision in the principal newspaper for both 36 CFR parts 215 and 217.

Where more than one newspaper is listed for any unit, the first newspaper listed is the principal newspaper that will be utilized for publishing the legal notices of decisions. Additional newspapers listed for a particular unit are those newspapers the Deciding Officer expects to use for purposes of providing additional notice. The timeframe for appeal shall be based on the date of publication of the legal notice of the decision in the principal newspaper. The following newspapers will be sued to provide notice.

Eastern Region

Regional Forester Decisions

Affecting National Forest System lands in the states of Illinois, Indiana and Ohio, Michigan, Minnesota, Missouri, New Hampshire and Maine, Pennsylvania, Vermont and New York; West Virginia, Wisconsin and for any decision of Region-wide Impact.

Journal/Sentinel, published daily in Milwaukee, Milwaukee County, Wisconsin.

National Forests

Allegheny National Forest, Pennsylvania

Forest Supervisor Decisions

Warren Times Observer, Warren, Warren County, Pennsylvania.

District Ranger Decisions

Bradford District: Bradford Era, Bradford, McKean County, Pennsylvania.

Marienville District: The Derrick, Oil City, Pennsylvania.

Ridgway District: The Ridgway Record, Ridgway, Elk County, Pennsylvania.

Chequamegon/Nicolet National Forest, Wisconsin

Forest Supervisor Decisions

The Journal/Sentinel, published daily in Milwaukee, Milwaukee County, Wisconsin.

District Ranger Decisions

Eagle River/Florence District: The Daily News, published daily except Saturday, Rhinelander, Wisconsin.

Great Divide District: The Daily Press, published daily in Ashland County, Ashland, Wisconsin.

Medford/Park Falls District: The Star News, published weekly in Medford, Taylor County, Wisconsin and The Park Falls Herald, published weekly in Park Falls, Price County, Wisconsin.

Washburn District: The Daily Press, published daily in Ashland County, Ashland, Wisconsin.

Lakewood/Laona District: The Daily News, published daily except Saturday, Rhinelander, Wisconsin.

Chippewa National Forest, Minnesota

Forest Supervisor Decisions

Bemidji Pioneer, published daily in Bemidji, Beltrami County, Minnesota.

District Ranger Decisions

Blackduck District: The American, published weekly in Blackduck, Beltrami County, Minnesota.

Cass Lake District: The Cass Lake Times, published weekly in Cass Lake, Cass County, Minnesota.

Deer River and Marcell Districts: The Western Itasca Review, published weekly in Deer River, Itasca County, Minnesota.

Walker District: The Pilot/Independent, published weekly in Walker, Cass County, Minnesota.

Green Mountain National Forest, Vermont

Forest Supervisor Decisions

The Rutland Herald, published daily in Rutland, Rutland County, Vermont.

District Ranger Decisions

The Rutland Herald, published daily in Rutland, Rutland County, Vermont is the formal newspaper of record for all district ranger decisions. Other newspapers listed are optional.

Manchester District: The Rutland Herald, published daily in Rutland, Rutland County, Vermont; All others optional, The Bennington Banner, published daily in Bennington, Bennington County, Vermont Manchester Journal, published weekly in Bennington County, Vermont and The Brattleboro Reformer, published daily in Brattleboro, Windham County, Vermont.

Middlebury District: The Rutland Herald, published daily in Rutland, Rutland County, Vermont; All others optional, The Addison County Independent, published twice weekly in Middlebury, Addison County, Vermont.

Rochester District: The Rutland Herald, published daily in Rutland, Rutland County, Vermont; All others optional, The Burlington Free Press, published daily in Burlington, Chittenden County, Vermont; The Valley Reporter, published weekly in Washington County Vermont and The Randolph Herald, published weekly in Orange County, Vermont.

Finger Lakes National Forest, New York

Forest Supervisor Decisions

The Ithaca Journal, published daily in Ithaca, Tompkins County, New York.

District Ranger Decisions

Hector District: The Ithaca Journal, published daily in Ithaca, Tompkins County, New York.

Hiawatha National Forest, Michigan

Forest Supervisor Decisions

The Daily Press, published daily in Escanaba, Delta County, Michigan.

District Ranger Decisions

Rapid River District: The Daily Press, published daily in Escanaba, Delta County, Michigan.

Manistique District: The Daily Press, published daily in Escanaba, Delta County, Michigan.

Munising District: The Mining Journal, published daily in Marquette, Marquette County, Michigan.

Sault Ste. Marie District: The Evening News, published daily in Sault Ste. Marie.

St. Ignace District: The Evening News, published daily in Sault Ste. Marie, Chippewa County, Michigan.

Hoosier National Forest, Indiana

Forest Supervisor Decisions

The Hoosier Times, published in Bloomington, Monroe County, Indiana.

District Ranger Decisions

Brownstown District: The Hoosier Times, published in Bloomington, Monroe County, Indiana.

Tell City District: The Perry County News, published in Tell City, Perry County, Indiana.

Huron-Manistee National Forest, Michigan

Note: 1st Newspaper listed is mandatory—others optional.

Forest Supervisor Decisions

Cadillac News, published daily in Cadillac, Wexford County, Michigan; Lake County Star, published weekly in Baldwin, Lake County, Michigan; Ludington Daily News, published daily in Ludington, Mason County, Michigan; Alcona County Review, published weekly in Harrisville, Alcona County, Michigan; Manistee News Advocate, published daily in Manistee, Manistee County, Michigan; Oscoda County Herald, published weekly in Mio, Oscoda County, Michigan; Crawford County Avalanche, published weekly in Grayling, Crawford County, Michigan; Oscoda Press, published weekly in Oscoda, Iosoco County, Michigan; Fremont Times-indicator, published weekly in Fremont, Newaygo County, Michigan; Oceana-Herald Journal, published weekly in Hart, Mason County, Michigan; Muskegon Chronicle, published in Muskegon, Muskegon County, Michigan; Grand Rapids Press, published daily in Grand Rapids, Kent County, Michigan and Big Rapids Pioneer, published daily in Big Rapids, Mecosta County, Michigan.

District Ranger Decisions

Baldwin District: Lake County Star, published weekly in Baldwin, Lake County, Michigan and Ludington Daily News, published daily in Ludington, Mason County, Michigan.

Cadillac District: Cadillac News, published daily in Cadillac, Wexford County, Michigan.

Harrisville District: Alcona County Review, published weekly in Harrisville, Alcona County, Michigan.

Manistee District: Manistee News Advocate, published daily in Manistee, Manistee County, Michigan.

Mio District: Oscoda County Herald, published weekly in Mio, Oscoda County, Michigan and Crawford County Avalanche, published weekly in Grayling, Crawford County, Michigan.

Tawas District: Oscoda Press, published weekly in Oscoda, Iosco County, Michigan.

White Cloud District: Fremont Times-Indicator, published weekly in Fremont, Newaygo County, Michigan and Oceana-Herald Journal, published weekly in Hart, Mason County, Michigan.

Mark Twain National Forest, Missouri

Forest Supervisor Decisions

Rolla Daily News, published in Rolla Phelps County, Missouri.

District Ranger Decisions

Ava/Cassville District: Springfield News Leader, published daily in Springfield, Greene County, Missouri.

Cedar Creek District: Fulton Sun, published daily in Fulton, Callaway County, Missouri.

Doniphan District: Prospect News, published weekly in Doniphan, Ripley County, Missouri.

Eleven Point District: Current Wave, published weekly in Eminence, Shannon County, Missouri.

Rolla District: Houston Herald, published weekly (Thursdays) in Houston, Texas County, Missouri.

Houston District: Houston Herald, published weekly (Thursdays) in Houston, Texas County, Missouri.

Poplar Bluff District: Daily American Republic, published daily in Poplar Bluff, Butler County, Missouri.

Potosi District: The Independent-Journal, published Thursday in Potosi, Washington County, Missouri.

Fredericktown District: The Democrat-News, published weekly in Fredericktown, Madison County, Missouri.

Salem District: The Salem News, published Tuesday and Thursday in Salem, Dent County, Missouri.

Willow Springs District: West Plains Daily Quill, published daily in West Plains, Howell County, Missouri.

Midewin Tall Grass Prairie, Wilmington, Illinois

Prairie Supervisor Decisions

The Herald News, published daily in Joliet, Illinois.

Monongahela National Forest, Elkins, West Virginia

Forest Supervisor Decisions

The Elkins Inter-Mountain, published daily in Elkins, Randolph County, WV.

District Ranger Decisions

Cheat District: The Parsons Advocate, published weekly in Parsons, Tucker County, WV.

Gauley District: The Nicholas Chronicle, published weekly in Summersville, Nicholas County, WV.

Greenbrier District: The Pocahontas Times, published weekly in Marlinton, Pocahontas County, WV.

Marlinton District: The Pocahontas Times, published weekly in Marlinton, Pocahontas County, WV.

Potomac District: The Grant County Press, published weekly in Petersburg, Grant County, WV.

White Sulphur District: The Register-Herald, published daily in Beckley, Raleigh County, WV.

Ottawa National Forest, Michigan

Forest Supervisor Decisions

The Ironwood Daily Globe, published in Ironwood, Gogebic County, Michigan and for those on the Iron River District, The Reporter, published in Iron River, Iron County, Michigan.

District Ranger Decisions

Bessemer, Kenton, Ontonagon and Watersmeet Districts: The Ironwood Daily Globe, published in Ironwood, Gogebic County, Michigan.

Iron River District: The Reporter, published in Iron River, Michigan, Iron County, Michigan.

Bergland District: The Ironwood Daily Globe, published in Ironwood, Gogebic County, Michigan.

Shawnee National Forest, Illinois

Forest Supervisor Decisions

Southern Illinoisan, published daily in Carbondale, Jackson County, Illinois.

District Ranger Decisions

Vienna-Elizabethtown, Jonesboro-Murphysboro Districts: Southern Illinoisan, published daily in Carbondale, Jackson County, Illinois.

Superior National Forest, Minnesota

Forest Supervisor Decisions

Duluth News-Tribune, published daily in Duluth, St. Louis County, Minnesota.

District Ranger Decisions

Gunflint District: Cook County News-Herald, published weekly in Grand Marais, Cook County, Minnesota.

Kawishiwi District: Timberjay, published weekly in Ely, St. Louis County, Minnesota.

LaCroix District: Mesabi Daily News, published daily in Virginia, St. Louis County, Minnesota.

Laurentian District: Mesabi Daily News, published daily in Virginia, St. Louis County, Minnesota.

Tofte District: Duluth News-Tribune, published daily in Duluth, St. Louis County, Minnesota.

Wayne National Forest, Ohio

Forest Supervisor Decisions

The Athens Messenger, published in Athens, Athens County, Ohio.

District Ranger Decisions

Athens District: Athens Messenger, (same for Marietta Unit), published in Athens, Athens County, Ohio.

Ironton District: The Ironton Tribune, published in Ironton, Lawrence County, Ohio.

White Mountain National Forest, New Hampshire and Maine

Forest Supervisor Decisions

The Union Leader, published daily in Manchester, County of Hillsborough, New Hampshire.

Ammonoosuc District: The Union Leader, published daily in Manchester, County of Hillsborough, New Hampshire.

Androscoggin District: The Union Leader, published daily in Manchester, County of Hillsborough, New Hampshire.

Evans Notch District: The Lewiston Sun, published daily in Lewiston, County of Androscoggin, Maine.

Pemigewasset District: The Union Leader, published daily in Manchester, County of Hillsborough, New Hampshire.

Saco District: The Union Leader, published daily in Manchester, County of Hillsborough, New Hampshire.

Dated: April 1, 2004.
Randy Moore,
Regional Forester.

[FR Doc. 04-7850 Filed 4-6-04; 8:45 am]

BILLING CODE 3410-11-M